DEPARTMENT OF TRANSPORTATION

Federal Aviation Administration

14 CFR Part 39

[Docket No. FAA-2013-0697; Directorate Identifier 2013-SW-009-AD; Amendment 39-17862; AD 2014-12-01]

RIN 2120-AA64

Airworthiness Directives; Bell Helicopter Textron, Inc. (Bell) Helicopters

AGENCY: Federal Aviation Administration (FAA), DOT.

ACTION: Final rule.

SUMMARY: We are superseding Airworthiness Directive (AD) 2013-11-05 for Bell Model 214B, 214B-1, and 214ST helicopters with certain tail rotor hanger bearings (bearing) installed. AD 2013-11-05 required inspecting the bearing to determine whether an incorrectly manufactured seal material is installed on the bearing. This new AD retains the repetitive inspection of the bearings and also requires replacing the defective bearings. This AD was prompted by a report that certain bearings were manufactured with an incorrect seal material that does not meet Bell specifications. We are issuing this AD to prevent failure of the bearing and subsequent loss of control of the helicopter.

DATES: This AD is effective July 14, 2014.

The Director of the Federal Register approved the incorporation by reference of certain publications listed in this AD as of June 19, 2013 (78 FR 33204, June 4, 2013).

ADDRESSES: For service information identified in this AD, contact Bell Helicopter Textron, Inc., P.O. Box 482, Fort Worth, Texas 76101; telephone (817) 280-3391; fax (817) 280-6466; or at http://www.bellcustomer.com/files/. You may review service information at the FAA, Office of the Regional Counsel, Southwest Region, 2601 Meacham Blvd., Room 663, Fort Worth, Texas 76137.

Examining the AD Docket

You may examine the AD docket on the Internet at http://www.regulations.gov in Docket No. FAA-2013-0697; or in person at the Docket Management Facility between 9 a.m. and 5 p.m., Monday through Friday, except Federal holidays. The AD docket contains this AD, any incorporated-by-reference information, the economic evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Joon Kim, Aviation Safety Engineer, Rotorcraft Certification Office, Rotorcraft Directorate, FAA, 2601 Meacham Blvd., Fort Worth, Texas 76137; telephone (817) 222-5762; email 7-AVS-ASW-170@faa.gov.

SUPPLEMENTARY INFORMATION:

Discussion

We issued a notice of proposed rulemaking (NPRM) to amend 14 CFR part 39 to supersede AD 2013-11-05, Amendment 39-17465 (78 FR 33204, June 4, 2013) (AD 2013-11-05). AD 2013-11-05 applied to Bell Model 214B, 214B-1, and 214ST helicopters with certain part-numbered bearings installed. The NPRM published in the Federal Register on August 12, 2013 (78 FR 48822). The NPRM proposed to retain the repetitive inspection requirements of AD 2013-11-05 and also proposed to require replacing any bearing that has black seal material with a bearing that has correct seal material within 500 hours time-in-service (TIS) or 6 months, whichever occurs earlier, as a terminating action. AD 2013-11-05 was prompted by a report that all part number 214-040-606-005 and 214-040-606-101 bearings delivered between May 2011 and June 2012 were manufactured with incorrect seal material that does not meet Bell's operating and environmental temperature specifications. Since we issued AD 2013-11-05, we determined that replacing the bearings within 500 hours TIS will provide an acceptable level of safety and should be a required terminating action for the repetitive inspections. These actions are intended to prevent loss of bearing grease, failure of the bearing, and subsequent loss of control of the helicopter.

Comments

We gave the public the opportunity to participate in developing this AD, but we did not receive any comments on the NPRM (78 FR 48822, August 12, 2013).

FAA's Determination

We have reviewed the relevant information and determined that an unsafe condition exists and is likely to exist or develop on other helicopters of these same type designs and that air safety and the public interest require adopting the AD requirements as proposed.

Related Service Information

Bell issued Alert Service Bulletin (ASB) 214-13-74, Revision A, dated March 25, 2013, for Model 214B and 214B-1 helicopters serial number (S/N) 28001 through 28070, and ASB 214ST-13-90, Revision A, dated March 25, 2013, for Model 214ST helicopters. Both ASBs describe procedures to determine whether any bearing with incorrect seal material is installed on the helicopter and for inspecting any installed bearing with incorrect seal material every 10 hours TIS. Both ASBs also specify replacing any bearing with incorrect seal material that is leaking grease or damaged. Finally, the ASBs specify replacing any bearing with incorrect seal material within 500 hours TIS or by December 31, 2013.

Differences Between This AD and the Service Information

The Bell ASBs allow 25 hours TIS for the initial inspection, while this AD requires inspecting within 10 hours TIS. The ASBs specify replacing any bearing with black seal material within 500 hours TIS or by December 31, 2013. This AD requires replacement within 500 hours TIS or 6 months, whichever occurs earlier.

Costs of Compliance

We estimate that this AD affects 26 helicopters of U.S. Registry. We estimate that operators will incur the following costs in order to comply with this AD. At an average labor cost of $85 per hour, inspecting the bearings requires about 2.5 work hours, for a cost per helicopter of $213 and a cost of $5,538 for the fleet. Replacing a defective bearing requires about 3 work hours, and required parts would cost $1,372, for a cost per helicopter of $1,627.

According to Bell's service information some of the costs of this AD may be covered under warranty, thereby reducing the cost impact on affected individuals. We do not control warranty coverage by Bell. Accordingly, we have included all costs in our cost estimate.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that a regulatory distinction is required, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-11-05, Amendment 39-17465 (78 FR 33204, June 4, 2013), and adding the following new AD:

2014-12-01 Bell Helicopter Textron, Inc. (Bell): Amendment 39-17862; Docket No. FAA-2013-0697; Directorate Identifier 2013-SW-009-AD.

(a) Applicability

This AD applies to Bell Model 214B helicopters, serial number (S/N) 28001 through 28070, Model 214B-1 helicopters, S/N 28001 through 28070, and Model 214ST helicopters, S/N 28101 through 28200, with a tail rotor hanger bearing (bearing), part number (P/N) 214-040-606-005 or 214-040-606-101 installed, certificated in any category.

(b) Unsafe Condition

This AD defines the unsafe condition as a bearing with incorrect seal material, which could fail under extreme temperature or environmental conditions, resulting in loss of tail rotor control and subsequent loss of control of the helicopter.

(c) Affected ADs

This AD supersedes AD 2013-11-05, Amendment 39-17465 (78 FR 33204, June 4, 2013).

(d) Effective Date

This AD becomes effective July 14, 2014.

(e) Compliance

You are responsible for performing each action required by this AD within the specified compliance time unless it has already been accomplished prior to that time.

(f) Required Actions

(1) Within 10 hours time in service (TIS):

(i) Inspect each bearing to determine whether the seal material is correct, as described in the Accomplishment Instructions, Part 1—Inspection, paragraphs 1.a. through 2. and Figure 1 of Bell Alert Service Bulletin (ASB) No. 214-13-74, Revision A, dated March 25, 2013, for Model 214B and 214B-1 helicopters and ASB No. 214ST-13-90, Revision A, dated March 25, 2013, for Model 214ST helicopters.

(ii) For each bearing with black seal material, before further flight and thereafter at intervals not to exceed 10 hours TIS, inspect the bearing for leakage, slung grease, or damage. If there is any leakage, slung grease, or damage, before further flight, replace the bearing with an airworthy bearing with red/orange to brown color seal material.

(2) Within 500 hours TIS or 6 months, whichever occurs earlier, replace any bearing with black seal material with an airworthy bearing with red/orange to brown color seal material.

(3) Do not install bearing P/N 214-040-606-005 or 214-040-606-101 with black seal material on any helicopter.

(g) Special flight permits

Special flight permits are prohibited.

(h) Alternative Methods of Compliance (AMOCs)

(1) The Manager, Rotorcraft Certification Office, FAA, may approve AMOCs for this AD. Send your proposal to: Joon Kim, Aviation Safety Engineer, Rotorcraft Certification Office, Rotorcraft Directorate, FAA, 2601 Meacham Blvd., Fort Worth, Texas 76137; telephone (817) 222-5762; email 7-AVS-ASW-170@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(i) Subject

Joint Aircraft Service Component (JASC) Code: 6500: Tail Rotor Drive Bearing.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on June 19, 2013 (78 FR 33204, June 4, 2013).

(i) Bell Alert Service Bulletin No. 214-13-74, Revision A, dated March 25, 2013.

(ii) Bell Alert Service Bulletin No. 214ST-13-90, Revision A, dated March 25, 2013.

(4) For Bell service information identified in this AD, contact Bell Helicopter Textron, Inc., P.O. Box 482, Fort Worth, Texas 76101; telephone (817) 280-3391; fax (817) 280-6466; or at http://www.bellcustomer.com/files/.

(5) You may view this service information at FAA, Office of the Regional Counsel, Southwest Region, 2601 Meacham Blvd., Room 663, Fort Worth, Texas 76137. For information on the availability of this material at the FAA, call (817) 222-5110.

(6) You may also view this service information that is incorporated by reference at the National Archives and Records Administration (NARA). For information on the availability of this material at NARA, call (202) 741-6030, or go to: http://www.archives.gov/federal-register/cfr/ibr-locations.html.

Issued in Fort Worth, Texas, on May 30, 2014.
Lance T. Gant,
Acting Directorate Manager, Rotorcraft Directorate, Aircraft Certification Service.

[FR Doc. 2014-13260 Filed 6-6-14; 8:45 am]

BILLING CODE 4910-13-P